DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: See SUPPLEMENTARY INFORMATION section for effective date(s).

FOR FURTHER INFORMATION CONTACT: OFAC: Andrea Gacki, Director, tel.: 202-622-2490; Associate Director for Global Targeting, tel.: 202-622-2420; Assistant Director for Sanctions Compliance & Evaluation, tel.: 202-622-2490; Assistant Director for Licensing, tel.: 202-622-2480; or Assistant Director for Regulatory Affairs, tel.: 202-622-4855.

SUPPLEMENTARY INFORMATION:

Electronic Availability

The Specially Designated Nationals and Blocked Persons List and additional information concerning OFAC sanctions programs are available on OFAC's website (https://www.treasury.gov/ofac).

Notice of OFAC Action(s)

On March 25, 2021, OFAC determined that the property and interests in property subject to U.S. jurisdiction of the following persons are blocked under the relevant sanctions authority listed below.

Entities:

1. MYANMAR ECONOMIC CORPORATION LIMITED (a.k.a. MYANMAR ECONOMIC CORPORATION; a.k.a. “MEC”), Corner of Ahlone Road & Kannar Road, Ahlone Township, Rangoon, Burma; Registration Number 105444192 (Burma) [BURMA-EO14014].

Designated pursuant to section 1(a)(vii) of Executive Order of February 10, 2021, “Blocking Property With Respect to the Situation in Burma” (the “Order”) for being a foreign person that is owned or controlled by, or has acted or purported to act for or on behalf of, directly or indirectly, the military or security forces of Burma or any person whose property and interests in property are blocked pursuant to the Order.

2. MYANMA ECONOMIC HOLDINGS PUBLIC COMPANY LIMITED (a.k.a. MYANMAR ECONOMIC HOLDING LIMITED; a.k.a. “MEHL”), 51*Mahabandoola Road 189/191, Botataung, Rangoon 11161, Burma; Registration Number 156387282 (Burma) [BURMA-EO14014].

Designated pursuant to section 1(a)(vii) of the Order for being a foreign person that is owned or controlled by, or has acted or purported to act for or on behalf of, directly or indirectly, the military or security forces of Burma or any person whose property and interests in property are blocked pursuant to the Order.

Dated: March 25, 2021.
Bradley T. Smith,
Acting Director, Office of Foreign Assets Control, U.S. Department of the Treasury.

[FR Doc. 2021-06486 Filed 3-29-21; 8:45 am]

BILLING CODE 4810-AL-P